NUCLEAR REGULATORY COMMISSION

[Docket No. 50-252; NRC-2009-0557]

University of New Mexico AGN-201M Reactor Notice of Issuance of Renewed Facility Operating License No. R-102

The U.S. Nuclear Regulatory Commission (NRC) has issued renewed Facility Operating License No. R-102, held by the University of New Mexico (the licensee), which authorizes continued operation of the University of New Mexico AGN-201M Reactor (UNMR), located in Albuquerque, Bernalillo County, New Mexico. The UNMR is a solid homogeneous core research reactor licensed to operate at a steady-state power level of 5 watts thermal power. Renewed Facility Operating License No. R-102 will expire at midnight 20 years from its date of issuance.

The renewed license complies with the standards and requirements of the Atomic Energy Act of 1954, as amended (the Act), and the Commission's rules and regulations. The Commission has made appropriate findings as required by the Act and the Commission's regulations in Title 10, Chapter 1, “Nuclear Regulatory Commission,” of the Code of Federal Regulations (10 CFR), and sets forth those findings in the renewed license. The agency afforded an opportunity for hearing in the Notice of Opportunity for Hearing published in the Federal Register on December 21, 2009 (74 FR 67927). The NRC received no request for a hearing or petition for leave to intervene following the notice.

The NRC staff prepared a safety evaluation report for the renewal of Facility License No. R-102 and concluded, based on that evaluation, that the licensee can continue to operate the facility without endangering the health and safety of the public. The NRC staff also prepared an Environmental Assessment and Finding of No Significant Impact for license renewal, noticed in the Federal Register on May 14, 2010 (75 FR 27372), and concluded that renewal of the license will not have a significant impact on the quality of the human environment.

For details with respect to the application for renewal, see the licensee's letter dated February 21, 2007 (Agencywide Document Access and Management System (ADAMS) Accession No. ML092170540), as supplemented by letters dated November 9, 2009 (ADAMS Accession No. ML093410385), February 17, 2010 (ADAMS Accession No. ML100501007), and November 19, 2010 (ADAMS Accession No. ML103330190). Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the NRC Web site, http://www.nrc.gov/reading-rm/adams.html. Persons who do not have access to ADAMS or who encounter problems in accessing the documents located in ADAMS should contact the NRC PDR Reference staff at 1-800-397-4209 or 301-415-4737, or send an e-mail to pdr@nrc.gov.

Dated at Rockville, Maryland, this 22nd day of February, 2011.
For the Nuclear Regulatory Commission.
Jessie Quichocho,
Chief, Research and Test Reactors Licensing Branch, Division of Policy and Rulemaking, Office of Nuclear Reactor Regulation.

[FR Doc. 2011-4537 Filed 2-28-11; 8:45 am]

BILLING CODE 7590-01-P